DEPARTMENT OF ENERGY

Federal Energy Regulatory Commission

[Docket No. GT02-36-000]

Canyon Creek Compression Company; Notice of Tariff Filing

August 27, 2002.

Take notice that on August 21, 2002, Canyon Creek Compression Company, (Canyon) tendered for filing as part of its FERC Gas Tariff, Third Revised Volume No. 1, Original Sheet No. 165A, to become effective September 20, 2002.

Canyon states that the purpose of this filing is to revise the provisions of the General Terms and Conditions in Canyon's Tariff relating to capacity releases by shippers which are not creditworthy or which become noncreditworthy.

Canyon states that copies of the filing are being mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22296 Filed 8-30-02; 8:45 am]

BILLING CODE 6717-01-P